DEPARTMENT OF THE INTERIOR

Bureau of Land Management

43 CFR Part 4100

[WO-220-1020-24 1A]

RIN 1004-AD42

Grazing Administration B Exclusive of Alaska

AGENCY: Bureau of Land Management, Interior.

ACTION: Proposed rule; correction; extension of comment period.

SUMMARY: The Bureau of Land Management (BLM) is extending the public comment period on a proposed rule published in the Federal Register on December 8, 2003 (68 FR 68452). This will allow additional time for public comment following publication on January 6, 2004, of the Draft Environmental Impact Statement associated with this proposed rule. BLM is also announcing public meetings on the Draft Environmental Impact Statement, and correcting the proposed rule to conform it to a final rule published recently by the Office of Hearings and Appeals, Department of the Interior.

DATES: You must submit your comments by March 2, 2004. BLM may not necessarily consider or include in the Administrative Record for the proposed rule comments that BLM receives after the close of the comment period or comments delivered to an address other than those listed below (see ADDRESSES). See the SUPPLEMENTARY INFORMATION section for the dates and locations of the public meetings.

ADDRESSES: Mail: Director (630), Bureau of Land Management, Eastern States Office, 7450 Boston Boulevard, Springfield, Virginia 22153, Attention: RIN 1004-AD42. Personal or messenger delivery: 1620 L Street, NW., Room 401, Washington, DC 20036. Direct Internet response: www.blm.gov/nhp/news/regulatory/index.html, or at http://www.blm.gov.

FOR FURTHER INFORMATION CONTACT: Kenneth Visser at (775) 861-6464, for information relating to the grazing program or the substance of the proposed regulation, or Ted Hudson at (202) 452-5042 or Cynthia Ellis at (202) 452-5012 for information relating to the rulemaking process. Persons who use a telecommunications device for the deaf (TDD) may call the Federal Information Relay Service (FIRS) at 1-800-877-8330, 24 hours a day, seven days a week, to contact the above individuals.

SUPPLEMENTARY INFORMATION: BLM published the proposed rule on December 8, 2003 (68 FR 68452), and provided a 60-day comment period that will end on February 6, 2004. We are extending the comment period on this proposed rule until March 2, 2004, to allow the public additional time to provide us with their comments. On January 6, 2004, BLM published in the Federal Register (69 FR 569) a Notice of Availability of the Draft Environmental Impact Statement (Draft EIS) under the National Environmental Policy Act on the changes we are considering making to the regulations governing BLM's Grazing Administration Program. BLM is planning 6 public meetings to provide the public with the opportunity to comment on the scope, proposed action, and possible alternatives BLM considered when developing the Draft EIS. The dates, times and locations of these meetings are shown in the table below:

Location | Date and Time | Address of Meeting | Contact Person
Salt Lake City, UT | Tuesday, January 27, 2004, 6 p.m. to 10 p.m. | Marriott Hotel, 75 South West Temple, Salt Lake City, UT 84101 | Laura Williams (801) 539-4027.
Phoenix, AZ | Wednesday, January 28, 2004, 6 p.m. to 10 p.m. | Wyndham Phoenix Hotel, 50 East Adams Street, Phoenix, AZ 85004 | Deborah Stevens, (602) 417-9215.
Boise, ID | Saturday, January 31, 2004, 1 p.m. to 5 p.m. | Doubletree Riverside Hotel, Tamarack Room, 2900 Chinden Boulevard, Boise, ID 83714 | Cheryle Zwang, (208) 373-4016.
Billings, MT | Monday, February 2, 2004, 6 p.m. to 10 p.m. | Holiday Inn Grand Montana, 5500 Midland Road, Billings, MT 59101 | Mary Apple, (406) 896-5258.
Cheyenne, WY | Tuesday, February 3, 2004, 6 p.m. to 10 p.m. | Little America, West America Ballroom, 2800 West Lincoln Way, Cheyenne, WY 82009 | Cindy Wertz, (307) 775-6014.
Washington, DC | Thursday, February 5, 2004, 1 p.m. to 5 p.m. | Courtyard by Marriott-Embassy Row, 1600 Rhode Island Avenue, Washington, DC 20036 | Tom Gorey, (202) 452-5137.

We are also correcting the proposed rule to conform to a provision in a new final rule published by the Office of Hearings and Appeals (OHA) on December 10, 2003 (68 FR 68765). Section 4160.3(c) in the proposed rule referred to the authority of an administrative law judge to provide that a grazing decision becomes effective immediately as provided in 43 CFR 4.21(a)(1). That provision does not contain such authority for administrative law judges. However, the December 10, 2003, OHA final rule does contain such authority in 43 CFR 4.479(c). Therefore, this notice corrects the cross-reference. We are also correcting editorial and typographical errors.

In proposed rule FR Doc. 03-30264, published on December 8, 2003 (68 FR 68452), make the following corrections.

1. On page 68460, in the second column, in line 10 of the column, correct the reference to “section 4130.3-1” to read “section 4130.3-3.”

2. On page 68464, in the second column, in line 1 of the column, correct the reference to “section 4140.0” to read “section 4140.1.”

3. On page 68473, in the second column, in paragraph (c) of § 4160.3, correct the final sentence to read as follows:

§ 4160.3 Final decisions.

* * * * *

(c) * * * Nothing in this section affects the authority of the Director of the Office of Hearings and Appeals or the Interior Board of Land Appeals as provided in § 4.21(a)(1) of this title, or the authority of an administrative law judge as provided in § 4.479(c) of this title, to provide that the decision becomes effective immediately.

Dated: January 9, 2004.
Rebecca W. Watson,
Assistant Secretary, Land and Minerals Management.

[FR Doc. 04-1032 Filed 1-15-04; 8:45 am]

BILLING CODE 4310-84-P